DEPARTMENT OF TRANSPORTATION

Surface Transportation Board

[Docket No. FD 35642]

Twin Cities & Western Railroad Company, the Estate of Douglas M. Head, and the DMH Trust fbo Martha M. Head—Continuance in Control Exemption—Sisseton Milbank Railroad Company

AGENCY: Surface Transportation Board, DOT.

ACTION: Notice of exemption.

SUMMARY: The Board is granting an exemption under 49 U.S.C. 10502 from the prior approval requirements of 49 U.S.C. 11323-25 for Twin Cities & Western Railroad Company (TCW), a Class III rail carrier, and the Estate of Douglas M. Head (the Estate), a noncarrier, to continue in control of Sisseton Milbank Railroad Company (SMRC) upon SMRC's becoming a Class III rail carrier in a related transaction. That related transaction involves SMRC's acquisition from Sisseton Milbank Railroad, Inc. (SMRR) and SLA Property Management Limited Partnership (SLA) of their interests in, and operation of, approximately 37.1 miles of rail line situated in Grant and Roberts Counties, S.D. (the Line).¹ Because all the carriers involved are Class III carriers, the continuance-in-control exemption is not subject to labor protective conditions. The Estate currently controls TCW, which, in turn, controls Minnesota Prairie Line, Inc. (MPL), also a Class III rail carrier. After the consummation of the acquisition transaction, SMRC and TCW will connect in or near Milbank, S.D.

¹ See Sisseton Milbank R.R.—Acquis. & Operation Exemption—SLA Prop. Mgmt. Ltd. P'ship, FD 35641 (STB served June 29, 2012).

In addition to TCW and the Estate, the DMH Trust fbo Martha M. Mead (Trust) also seeks an exemption for continuance of control of SMRC, apparently as part of the Estate's plan to distribute the stock of TCW to the Trust. Because the Trust does not currently control SMRC and will need to obtain Board authority in any event to acquire TCW, any rail carrier subsidiaries of TCW, or any other rail carrier, the request for a continuance-in-control exemption, as it applies to the Trust, is being denied.

DATES: This exemption will be effective on August 7, 2012. Petitions to stay must be filed by July 26, 2012. Petitions to reopen must be filed by August 1, 2012.

ADDRESSES: Send an original and 10 copies of all pleadings referring to Docket No. FD 35642, to: Surface Transportation Board, 395 E Street SW., Washington DC 20423-0001. In addition, send one copy of pleadings to Rose-Michele Nardi, Weiner Brodsky Sidman Kider PC, 1300 Nineteenth Street NW., Fifth Floor, Washington, DC 20036-1609.

FOR FURTHER INFORMATION CONTACT: Scott M. Zimmerman, (202) 245-0386. Assistance for the hearing impaired is available through the Federal Information Relay Service (FIRS) at (800) 877-8339.

SUPPLEMENTARY INFORMATION: Additional information is contained in the Board's decision served July 18, 2012, which is available on our Web site at “WWW.STB.DOT.GOV.”

Decided: July 13, 2012.
By the Board, Chairman Elliott, Vice Chairman Mulvey, and Commissioner Begeman.
Derrick A. Gardner,
Clearance Clerk.

[FR Doc. 2012-17847 Filed 7-20-12; 8:45 am]

BILLING CODE 4915-01-P